DEPARTMENT OF ENERGY

Federal Energy Regulatory Commission

Combined Notice of Filings #1

Take notice that the Commission received the following electric corporate filings:

Docket Numbers: EC16-72-000.

Applicants: Prairie Breeze Wind Energy II LLC, Prairie Breeze Wind Energy III LLC.

Description: Application for Authorization Under Section 203 of the Federal Power Act and Request for Waivers, Confidential Treatment, and Expedited Consideration of Prairie Breeze Wind Energy II LLC and Prairie Breeze Wind Energy III LLC.

Filed Date: 2/16/16.

Accession Number: 20160216-5218.

Comments Due: 5 p.m. ET 3/8/16.

Take notice that the Commission received the following electric rate filings:

Docket Numbers: ER16-722-000.

Applicants: Current Power & Gas Inc.

Description: Supplement to January 13, 2016 Current Power & Gas Inc. tariff filing.

Filed Date: 2/9/16.

Accession Number: 20160209-5020.

Comments Due: 5 p.m. ET 3/1/16.

Docket Numbers: ER16-736-001.

Applicants: PJM Interconnection, L.L.C.

Description: Tariff Amendment: Amendment to ER16-736 re: RTEP Projects Approved by Board in Dec 2015 to be effective 2/11/2016.

Filed Date: 2/12/16.

Accession Number: 20160212-5247.

Comments Due: 5 p.m. ET 3/4/16.

Docket Numbers: ER16-938-000.

Applicants: Arizona Public Service Company.

Description: § 205(d) Rate Filing: APS Energy Imbalance Market OATT Revisions to be effective 5/1/2016.

Filed Date: 2/12/16.

Accession Number: 20160212-5255.

Comments Due: 5 p.m. ET 3/4/16.

Docket Numbers: ER16-943-000.

Applicants: Midcontinent Independent System Operator, Inc.

Description: § 205(d) Rate Filing: 2016-02-16_SA 2896 METC-WPSC GIA (J392) to be effective 2/17/2016.

Filed Date: 2/16/16.

Accession Number: 20160216-5166.

Comments Due: 5 p.m. ET 3/8/16.

Docket Numbers: ER16-944-000.

Applicants: Quantum Lake Power, LP.

Description: Tariff Cancellation: Notice of Cancellation of Market-Based Rate Tariff to be effective 4/18/2016.

Filed Date: 2/16/16.

Accession Number: 20160216-5190.

Comments Due: 5 p.m. ET 3/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2016.
Nathaniel J. Davis, Sr.,
Deputy Secretary.

[FR Doc. 2016-03616 Filed 2-22-16; 8:45 am]

BILLING CODE 6717-01-P